ENVIRONMENTAL PROTECTION AGENCY

[EPA-HQ 20415-0641; FRL -9935-60-OW]

Proposed Information Collection Request; Comment Request; Information Collection Request for Reporting Requirements for BEACH Act Grants (Renewal)

AGENCY: Environmental Protection Agency (EPA).

ACTION: Notice.

SUMMARY: The Environmental Protection Agency is planning to submit an information collection request (ICR), “Information collection request for reporting requirements for BEACH act grants (renewal)” (EPA ICR No. 2048.05, OMB Control No. 2040-0244) to the Office of Management and Budget (OMB) for review and approval in accordance with the Paperwork Reduction Act (44 U.S.C. 3501 et seq.). Before doing so, EPA is soliciting public comments on specific aspects of the proposed information collection as described below. This is a proposed extension of the ICR, which is currently approved through December 31, 2015. An Agency may not conduct or sponsor and a person is not required to respond to a collection of information unless it displays a currently valid OMB control number.

DATES: Comments must be submitted on or before December 14, 2015.

ADDRESSES: Submit your comments, referencing Docket ID No. EPA-HQ 20415-0614 online using www.regulations.gov (our preferred method), or by mail to: EPA Docket Center, Environmental Protection Agency, Mail Code 28221T, 1200 Pennsylvania Ave., NW., Washington, DC 20460.

EPA's policy is that all comments received will be included in the public docket without change including any personal information provided, unless the comment includes profanity, threats, information claimed to be Confidential Business Information (CBI) or other information whose disclosure is restricted by statute.

FOR FURTHER INFORMATION CONTACT: Tracy Bone, OW, 4305T, Environmental Protection Agency, 1200 Pennsylvania Ave., NW., Washington, DC 20460; telephone number: 202-564-5257; email address: bone.tracy@epa.gov.

SUPPLEMENTARY INFORMATION:

Supporting documents which explain in detail the information that the EPA will be collecting are available in the public docket for this ICR. The docket can be viewed online at www.regulations.gov or in person at the EPA Docket Center, WJC West, Room 3334, 1301 Constitution Ave., NW., Washington, DC. The telephone number for the Docket Center is 202-566-1744. For additional information about EPA's public docket, visit http://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The Beaches Environmental Assessment and Coastal Health (BEACH) Act amends the Clean Water Act (CWA) in part and authorizes the U.S. Environmental Protection Agency (EPA) to award BEACH Act Program Development and Implementation Grants to coastal and Great Lakes states, tribes, and territories (collectively referred to as states) for their beach monitoring and notification programs. The grants will assist those states to develop and implement a consistent approach to monitor recreational water quality; assess, manage, and communicate health risks from waterborne microbial contamination; notify the public of pollution occurrences, and post beach advisories and closures to prevent public exposure to microbial pathogens. To qualify for a BEACH Act Grant, a state must submit information to EPA documenting that its beach monitoring and notification program is consistent with 11 performance criteria outlined in the National Beach Guidance and Required Performance Criteria for Grants, 2014 Edition.

Form Numbers: None.

Respondents/affected entities: Entities potentially affected by this action are environmental and public health agencies in coastal and Great Lakes states, territories, and tribes.

Respondent's obligation to respond: Required to obtain the grants as directed by the Beaches Environmental Assessment and Coastal Health (BEACH) Act amendment to the Clean Water Act (CWA).

Estimated number of respondents: 38.

Frequency of response: Submitting monitoring and notification reports quarterly, all other reporting annual.

Total estimated burden: 92,391 hours (per year). Burden is defined at 5 CFR 1320.03(b)

Total estimated cost: $13,302,102 (per year), includes $9,731,280 operation & maintenance costs. There are no capital costs.

Changes in Estimates: There is an increase of 3,579 hours in the total estimated respondent burden compared with the ICR currently approved by OMB. This increase is due to an additional respondent qualifying for a grant and to additional performance criteria related to public evaluation of programs and implementation schedules, which are discussed in the updated grant guidance document, National Beach Guidance and Required Performance Criteria for Grants, 2014 Edition.

Dated: October 1, 2015.
Elizabeth Southerland,
Director, Office of Science and Technology.

[FR Doc. 2015-26037 Filed 10-9-15; 08:45 am]

BILLING CODE 6560-50-P